DEPARTMENT OF COMMERCE

International Trade Administration

[C-533-884]

Glycine From India: Final Results of the Countervailing Duty Administrative Review; 2022

AGENCY: Enforcement and Compliance, International Trade Administration, Department of Commerce.

SUMMARY: The U.S. Department of Commerce (Commerce) determines that countervailable subsidies were provided to Kumar Industries, India (Kumar), a producer and exporter of glycine from India during the period of review (POR) January 1, 2022, through December 31, 2022.

DATES: Applicable December 2, 2024.

FOR FURTHER INFORMATION CONTACT: Scarlet Jaldin or Amber Hodak AD/CVD Operations, Office VI, Enforcement and Compliance, International Trade Administration, U.S. Department of Commerce, 1401 Constitution Avenue NW, Washington, DC 20230; telephone: (202) 482-4275 or (202) 482-8034, respectively.

SUPPLEMENTARY INFORMATION:

Background

On July 5, 2024, Commerce published the Preliminary Results of this administrative review.¹ On July 22, 2024, Commerce tolled certain deadlines in this administrative proceeding by seven days.² On November 12, 2024, Commerce extended the deadline for these final results to November 19, 2024.³ On November 18, 2024, Commerce further extended the deadline for these final results by an additional three days, to November 22, 2024.⁴ We received timely filed case and rebuttal briefs from Deer Park Glycine, LLC (the petitioner) and Kumar.⁵ For a complete description of the events that occurred since the Preliminary Results, see the Issues and Decision Memorandum.⁶

¹ See Glycine from India: Preliminary Results and Partial Rescission of the Countervailing Duty Administrative Review; 2022, 89 FR 55550 (July 5, 2024) (Preliminary Results), and accompanying Preliminary Decision Memorandum (PDM).

² See Memorandum, “Tolling of Deadlines for Antidumping and Countervailing Duty Proceedings,” dated July 22, 2024.

³ See Memorandum, “Extension of Deadline for Final Results of Countervailing Duty Administrative Review,” dated November 12, 2024.

⁴ See Memorandum, “Extension of Deadline for Final Results of Countervailing Duty Administrative Review,” dated November 18, 2024.

⁵ See Petitioner's Letter, “Case Brief of Deer Park Glycine, LLC,” dated August 5, 2024; see also Kumar's Letter, “Rebuttal Brief,” dated August 12, 2024.

⁶ See Memorandum, “Issues and Decision Memorandum for the Final Results of the Countervailing Duty Administrative Review of Glycine from India; 2022,” dated concurrently with, and hereby adopted by, this notice (Issues and Decision Memorandum).

Scope of the Order ⁷

⁷ See Glycine from India and the People's Republic of China: Countervailing Duty Orders, 84 FR 29173 (June 21, 2019) (Order).

The merchandise covered by the Order is glycine from India. For a complete description of the scope of the Order, see the Issues and Decision Memorandum.⁸

⁸ Id. at 2.

Analysis of Comments Received

All issues raised in the parties' briefs are addressed in the Issues and Decision Memorandum. A list of the issues addressed is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access/trade.gov/public/FRNoticesListLayout.aspx.

Changes Since the Preliminary Results

Based on the arguments raised and a review of the record and all supporting documentation, we made certain changes to the Preliminary Results. For a full description of these revisions, see the Issues and Decision Memorandum.

Methodology

Commerce conducted this administrative review in accordance with section 751(a)(1)(A) of the Tariff Act of 1930, as amended (the Act). For each of the subsidy programs found to be countervailable, Commerce finds that there is a subsidy, i.e., a financial contribution by an “authority” that gives rise to a benefit to the recipient, and that the subsidy is specific.⁹ For a full description of the methodology underlying our conclusions, including any determination that relied upon the use of adverse facts available pursuant to section 776(a) and (b) of the Act, see the accompanying Issues and Decision Memorandum.

⁹ See sections 771(5)(B) and (D) of the Act regarding financial contribution; see also section 771(5)(E) of the Act regarding benefit; and section 771(5A) of the Act regarding specificity.

Final Results of Review

Commerce determines that the following countervailable subsidy rate exists for the period January 1, 2022, through December 31, 2022:¹⁰

¹⁰ As discussed in the Preliminary Results and Issues and Decision Memorandum, Commerce has found the following companies to be cross-owned with Kumar Industries, India: Advance Chemical Corporation, Rexisize Rasayan Industries, and Reliance Corporation.

Company | Subsidy rate (percent ad valorem)
Kumar Industries, India; Advance Chemical Corporation; Rexisize Rasayan Industries; Reliance Corporation | 6.03

Disclosure

Commerce intends to disclose its calculations and analysis performed to interested parties for these final results within five days of any public announcement or, if there is no public announcement, within five days of the date of publication of the notice of final results in the Federal Register, in accordance with 19 CFR 351.224(b).

Assessment Rates

Pursuant to sections 751(a)(1) and (a)(2)(C) of the act and 19 CFR 351.212(b)(2), Commerce has determined, and U.S. Customs and Border Protection (CBP) shall assess, countervailing duties on all appropriate entries for the above-listed companies at the applicable ad valorem assessment rates. Commerce intends to issue assessment instructions to CBP no earlier than 35 days after the publication of the final results of this review in the Federal Register. If a timely summons is filed at the U.S. Court of International Trade, the assessment instructions will direct CBP not to liquidate relevant entries until the time for parties to file a request for statutory injunction has expired (i.e., within 90 days of publication).

Cash Deposit Requirements

In accordance with section 751(a)(1) of the Act, Commerce intends to instruct CBP to collect cash deposits of estimated countervailing duties for each of the companies listed above on shipments of subject merchandise entered, or withdrawn from warehouse, for consumption on or after the date of publication of the final results of this administrative review. For all non-reviewed firms, we will instruct CBP to continue to collect cash deposits of estimated countervailing duties at the all-others rate or the most recent company-specific rate applicable to the company, as appropriate. These cash deposit instructions, effective upon publication of these final results, shall remain in effect until further notice.

Administrative Protective Order

This notice also serves as a final reminder to parties subject to an administrative protective order (APO) of their responsibility concerning the disposition of proprietary information disclosed under APO in accordance with 19 CFR 351.305(a)(3), which continues to govern business proprietary information in this segment of the proceeding. Timely written notification of the return or destruction of APO materials or conversion to judicial protective order, is hereby requested. Failure to comply with the regulations and terms of an APO is a sanctionable violation.

Notification to Interested Parties

Commerce is issuing the final results and publishing this notice in accordance with sections 751(a)(1) and 777(i)(1) of the Act, and 19 CFR 351.221(b)(5).

Dated: November 22, 2024.
Abdelali Elouaradia,
Deputy Assistant Secretary for Enforcement and Compliance.

Appendix

List of Topics Discussed in the Issues and Decision Memorandum

I. Summary

II. Background

III. Scope of the Order

IV. Subsidies Valuation Information

V. Analysis of Programs

VI. Changes Since the Preliminary Results

VII. Discussion of the Issues

Comment 1: Whether Commerce Should Apply Adverse Facts Available (AFA) to Kumar

Comment 2: Whether Kumar Violated 18 U.S.C. 1001

VIII. Recommendation

[FR Doc. 2024-28150 Filed 11-29-24; 8:45 am]

BILLING CODE 3510-DS-P